DEPARTMENT OF TRANSPORTATION

Federal Aviation Administration

14 CFR Part 25

[Docket No. FAA-2015-4279; Special Conditions No. 25-612-SC]

Special Conditions: Gulfstream Aerospace Corporation, Gulfstream GVI Airplane; Non-Rechargeable Lithium Battery Installations

AGENCY: Federal Aviation Administration (FAA), DOT.

ACTION: Final special conditions; correction.

SUMMARY: This document corrects errors that appeared in Docket No. FAA-2015-4279, Special Conditions No. 25-612-SC, which was published in the Federal Register on April 22, 2016. The errors are incorrect title 14, Code of Federal Regulations section citations in two locations in the final special conditions document.

DATES: The effective date of this correction is January 16, 2018.

FOR FURTHER INFORMATION CONTACT: Nazih Khaouly, Airplane and Flight Crew Interface Section, AIR-671, Transport Standards Branch, Policy and Innovation Division, Aircraft Certification Service, 1601 Lind Avenue SW, Renton, Washington 98057-3356; telephone 425-227-2432; facsimile 425-227-1149.

SUPPLEMENTARY INFORMATION:

Background

On April 22, 2016, the Federal Register published a document designated as Docket No. FAA-2015-4279, Final Special Conditions No. 25-612-SC (81 FR 23573). The document issued special conditions pertaining to the installation of non-rechargeable lithium batteries in Gulfstream GVI airplanes. As published, the document contained an error in a title 14, Code of Federal Regulations (14 CFR) section citation in two locations in the final special conditions document. These citations inadvertently referred to the wrong amendment level for the certification basis of the various Gulfstream GVI airplanes. Therefore, we have corrected these special conditions to include the correct citations and amendment levels that apply to certification bases applicable to airplanes with non-rechargeable lithium-ion battery installations.

Correction

In the final special conditions document (FR Doc. 2016-09311 Filed 4-21-16; 8:45 a.m.), published on April 22, 2016 (81 FR 23573), make the following corrections.

1. On page 23574, second column, change the following paragraph:

These special conditions apply to all non-rechargeable lithium battery installations in lieu of § 25.1353(b)(1) through (b)(4) at Amendment 25-113. Sections 25.1353(b)(1) through (b)(4) at Amendment 25-113 remain in effect for other battery installations.

To read:

These special conditions apply to all non-rechargeable lithium battery installations in lieu of § 25.1353(b)(1) through (4) at Amendment 25-123 or § 25.1353(c)(1) through (4) at earlier amendments. Those regulations remain in effect for other battery installations.

2. On page 23577, third column, change the following paragraph:

In lieu of § 25.1353(b)(1) through (b)(4) at Amendment 25-113, each non-rechargeable lithium battery installation must:

To read:

In lieu of § 25.1353(b)(1) through (4) at Amendment 25-123, or § 25.1353(c)(1) through (4) at earlier amendments, each non-rechargeable lithium battery installation must:

Issued in Renton, Washington, on January 9, 2018.
Victor Wicklund,
Manager, Transport Standards Branch, Policy and Innovation Division, Aircraft Certification Service.

[FR Doc. 2018-00547 Filed 1-12-18; 8:45 am]

BILLING CODE 4910-13-P